DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: A Formative Evaluation of NOAA's Sentinel Site Program.

OMB Control Number: 0648-xxxx.

Form Number(s): NA.

Type of Request: Regular submission (request for a new information collection).

Number of Respondents: 125.

Average Hours per Response: 20 minutes.

Burden Hours: 42.

Needs and Uses: This request is for a new collection.

The NOAA Sentinel Site Program (SSP) is a cooperative program to promote resilient coastal communities and ecosystems in the face of change. A primary purpose of the program is to directly engage local, state, and federal managers as part of a Sentinel Site Cooperative (SSC) team. By doing so, managers can help ensure the types of science conducted, information gathered, and products developed are immediately used for better management. It is important to know who is actually using the products and services developed by these Cooperatives, and to what degree is capacity being built among and between coastal professionals and organizations through communications generated through the SSCs.

The purpose of this survey is to better understand the frequency and patterns of communication as a result of the efforts of the SSP. To help gather this information, NOAA will survey individuals known to have experience with the SSP and inquire on the communications and collaborations that have resulted. This survey is intended to serve as a means of formative evaluation for this effort. A formative evaluation is used to assess programs or projects early in their development or implementation to provide information about how best to revise and modify for improvement.

Affected Public: Federal government; state, local and tribal governments.

Frequency: Annually for two years.

Respondent's Obligation: Voluntary.

This information collection request may be viewed at reginfo.gov. Follow the instructions to review Department of Commerce collections currently under review by OMB.

Written comments and recommendations for the proposed information collection should be sent within 30 days of publication of this notice to OIRA_Submission@omb.eop.gov or faxed to (202) 395-5806.

Dated: May 8, 2014.
Gwellnar Banks,
Management Analyst, Office of the Chief Information Officer.

[FR Doc. 2014-11037 Filed 5-13-14; 8:45 am]

BILLING CODE 3510-08-P